DEPARTMENT OF COMMERCE

International Trade Administration

[C-351-846]

Hot-Rolled Steel Flat Products From Brazil: Rescission of 2018 Countervailing Duty Administrative Review

AGENCY: Enforcement and Compliance, International Trade Administration, Department of Commerce.

SUMMARY: The Department of Commerce (Commerce) is rescinding the administrative review of the countervailing duty (CVD) order on hot-rolled steel flat products from Brazil for the period of review (POR) January 1, 2018, through December 31, 2018.

DATES: Applicable March 2, 2020.

FOR FURTHER INFORMATION CONTACT: Ajay Menon or Adam Simons, AD/CVD Operations, Office II, Enforcement and Compliance, International Trade Administration, U.S. Department of Commerce, 1401 Constitution Avenue NW, Washington, DC 20230; telephone: (202) 482-1993 or (202) 482-6172, respectively.

SUPPLEMENTARY INFORMATION:

Background

On October 1, 2019, Commerce published in the Federal Register a notice of opportunity to request an administrative review of the CVD order on hot-rolled steel flat products from Brazil for the POR.¹ On October 31, 2019, Commerce received a timely request from United States Steel Corporation, Steel Dynamics, Inc., and SSAB Enterprises, LLC (collectively, domestic interested parties), in accordance with section 751(a) of the Tariff Act of 1930, as amended (the Act), and 19 CFR 351.213(b), to conduct an administrative review of this CVD order for 10 companies.²

¹ See Antidumping or Countervailing Duty Order, Finding, or Suspended Investigation; Opportunity to Request Administrative Review, 84 FR 52068 (October 1, 2019).

² See Domestic Interested Parties' Letter, “Hot-Rolled Steel Flat Products from Brazil: Request for Administrative Review of Countervailing Duty Order,” dated October 31, 2019.

On December 11, 2019, Commerce published in the Federal Register a notice of initiation with respect to these companies.³ On February 10, 2020, the domestic interested parties timely withdrew their request for an administrative review for all 10 companies.⁴

³ See Initiation of Antidumping and Countervailing Duty Administrative Reviews, 84 FR 67712 (December 11, 2019).

⁴ See Domestic Interested Parties' Letter, “Hot-Rolled Steel Flat Products from Brazil: Withdraw of Request for Administrative Review of Countervailing Duty Order,” dated February 10, 2020.

Rescission of Review

Pursuant to 19 CFR 351.213(d)(1), Commerce will rescind an administrative review, in whole or in part, if the parties that requested a review withdraw the request within 90 days of the date of publication of notice of initiation of the requested review. As noted above, the domestic interested parties withdrew their request for review by the 90-day deadline, and no other party requested an administrative review of this order. Therefore, we are rescinding the administrative review of the CVD order on hot-rolled steel flat products from Brazil covering the period January 1, 2018, through December 31, 2018, in its entirety.

Assessment

Commerce will instruct U.S. Customs and Border Protection (CBP) to assess countervailing duties on all appropriate entries. Because Commerce is rescinding this administrative review in its entirety, the entries to which this administrative review pertained shall be assessed at rates equal to the cash deposit of estimated countervailing duties required at the time of entry, or withdrawal from warehouse, for consumption, in accordance with 19 CFR 351.212(c)(1)(i). Commerce intends to issue appropriate assessment instructions directly to CBP 15 days after the date of publication of this notice in the Federal Register.

Notification Regarding Administrative Protective Orders

This notice serves as the only reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

This notice is issued and published in accordance with sections 751(a)(1) and 777(i)(1) of the Act and 19 CFR 351.213(d)(4).

Dated: February 26, 2020.
James Maeder,
Deputy Assistant Secretary for Antidumping and Countervailing Duty Operations.

[FR Doc. 2020-04227 Filed 2-28-20; 8:45 am]

BILLING CODE 3510-DS-P